DEPARTMENT OF HEALTH AND HUMAN SERVICES

National Institutes of Health

National Cancer Institute; Amended Notice of Meeting

Notice is hereby given of a change in the meeting of the National Cancer Institute Special Emphasis Panel, April 6, 2004, 8 a.m. to April 7, 2004, 5 p.m., Gaithersburg Hilton, 620 Perry Parkway, Gaithersburg, MD 20877 which was published in the Federal Register on January 30, 2004, 69 FR 4524.

The meeting is being amended due to change in meeting type from a regular meeting to a teleconference. The meeting is closed to the public.

Dated: March 5, 2004.
LaVerne Y. Stringfield,
Director, Office of Federal Advisory Committee Policy.

[FR Doc. 04-5532 Filed 3-10-04; 8:45 am]

BILLING CODE 4140-01-M